NUCLEAR REGULATORY COMMISSION

[Docket No. 50-352; NRC 2026-0793]

Constellation Energy Generation, LLC; Limerick Generating Station, Unit 1; License Amendment Application; Withdrawal by Applicant

AGENCY: Nuclear Regulatory Commission.

ACTION: Notice.

SUMMARY: The U.S. Nuclear Regulatory Commission (NRC) has granted the request of Constellation Energy Generation, LLC, to withdraw its application dated October 9, 2025, for a proposed amendment to Renewed Facility Operating License No. NPF-39. The licensee requested to withdraw its license amendment request to modify the facility technical specifications to allow a one-time extension to performing local leakage rate tests for four primary containment isolation valves.

DATES: This document was published in the Federal Register on February 25, 2026.

ADDRESSES: Please refer to Docket ID NRC-2026-0793 when contacting the NRC about the availability of information regarding this document. You may obtain publicly available information related to this document using any of the following methods:

• Federal Rulemaking Website: Go to https://www.regulations.gov and search for Docket ID NRC-2026-0793. Address questions about Docket IDs in Regulations.gov to Bridget Curran; telephone: 301-415-1003; email: Bridget.Curran@nrc.gov. For technical questions, contact the individual(s) listed in the For Further Information Contact section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Audrey L. Klett, Office of Nuclear Reactor Regulation, U.S. Nuclear Regulatory Commission, Washington, DC 20555-0001; telephone: 301-415-0489; email: Audrey.Klett@nrc.gov.

SUPPLEMENTARY INFORMATION: The NRC has granted Constellation Energy Generation, LLC's (the licensee's), request dated January 30, 2026 (ML26030A252), to withdraw its application dated October 9, 2025 (ML25282A072) for a proposed amendment to Renewed Facility Operating License No. NPF-39 for the Limerick Generation Station, Unit 1, located in Limerick, PA.

The licensee requested the NRC to modify the facility technical specifications to allow a one-time extension to performing local leakage rate tests for four primary containment isolation valves.

A notice of consideration of issuance and proposed no significant hazards consideration determination for the license amendment request was published in the Federal Register (91 FR 2375) on January 20, 2026.

Dated: February 23, 2026.
For the Nuclear Regulatory Commission.
Audrey Klett,
Senior Project Manager, Plant Licensing Branch I, Division of Operating Reactor Licensing, Office of Nuclear Reactor Regulation.

[FR Doc. 2026-03718 Filed 2-24-26; 8:45 am]

BILLING CODE 7590-01-P